DEPARTMENT OF AGRICULTURE

Animal and Plant Health Inspection Service

[Docket No. APHIS-2007-0148]

A Business Plan To Advance Animal Disease Traceability

AGENCY: Animal and Plant Health Inspection Service, USDA.

ACTION: Notice of availability and request for comments.

SUMMARY: We are advising the public that we are making available for review and comment a Business Plan to Advance Animal Disease Traceability. The Business Plan details recommended strategies and actions to enable existing State and Federal regulated and voluntary animal health programs, industry-administered management and marketing programs, and various animal identification methods to work in harmony with the National Animal Identification System.

ADDRESSES: The Business Plan is available on the Internet at http://animalid.aphis.usda.gov/nais/. The document may also be viewed in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Mr. Neil Hammerschmidt, Coordinator, National Animal Identification System, National Center for Animal Health Programs, VS, APHIS, 4700 River Road Unit 200, Riverdale, MD 20737-1231; (301) 734-5571.

SUPPLEMENTARY INFORMATION:

Background

As part of its ongoing efforts to safeguard animal health, the U.S. Department of Agriculture (USDA) initiated implementation of a National Animal Identification System (NAIS) in 2004. The NAIS is a cooperative State-Federal-industry program administered by USDA's Animal and Plant Health Inspection Service (APHIS). The purpose of the NAIS is to provide a streamlined information system that will help producers and animal health officials respond quickly and effectively to animal disease events in the United States.

The ultimate long-term goal of the NAIS is to provide State and Federal officials with the capability to identify all animals and premises that have had direct contact with a disease of concern within 48 hours after discovery. Meeting that goal requires a comprehensive animal-disease traceability infrastructure. We have therefore developed a Business Plan to Advance Animal Disease Traceability. The Business Plan details recommended strategies and actions to enable existing State and Federal regulated and voluntary animal health programs, industry-administered management and marketing programs, and various animal identification methods to work in harmony in the NAIS. The document also includes budget summaries and fiscal year 2008 budget plans, as well as species-specific performance goals and timelines. Elements of the Business Plan are discussed in greater detail below. We are now making the document available to the public for review and comment. We will solicit public comments and stakeholder feedback through the NAIS Web site.

Strategies

Strategy 1: Prioritize Species/Sectors

Prioritization of species and sectors will ensure that resources are applied where traceability advances are of the highest importance. The Business Plan first categorizes species based on existing tracing capabilities and the need for improvement. Priority species include the primary commercial food animal industries: Cattle, poultry (chickens and turkeys), swine, sheep, and goats. Equines are also included as a priority species because the frequency with which some horses are moved significant differences to one or more events where they are commingled with other horses that also may have been moved long distances from a variety of premises of origin raises concerns about the spread of disease. Additionally, sectors within each of the species referred to above have been prioritized to advance traceability where it is most needed.

Strategy 2: Harmonize Animal Identification Systems

The need for unique animal identification in government and industry programs is accelerating. As a result, producers are seeking improved and flexible identification methods and compatible processes and data standards that may be used for multiple purposes. The harmonization of animal identification systems will result in more cost-effective options, benefiting producers while achieving increased animal disease traceability for the entire industry.

Strategy 3: Standardize Data Elements for Disease Programs To Ensure Compatibility

APHIS will take steps to standardize data elements and make use of the standards in existing disease programs. Additionally, APHIS will consider a regulation to require the use of certain standardized data elements for import/export regulations, including the standardized premises identification number (PIN) to identify premises importing and exporting livestock. The use of the PIN on interstate certificates of veterinary inspection will also be facilitated and encouraged. The information on locations participating in official disease control programs and on the animals' origin and destination premises that would be listed on interstate certificates of veterinary inspection and on import/export health certificates would greatly enhance animal disease tracing and emergency response capabilities.

Strategy 4: Integrate Automated Data Capture Technologies Into Disease Programs

APHIS will take steps to integrate electronic data capture and reporting technologies into existing disease programs. By using NAIS-compliant identification devices that support automated data capture technology and integrating handheld computers and readers to replace paper-based forms, animal health officials will be able to electronically record and submit essential data to the USDA's Animal Health and Surveillance Monitoring database and other appropriate animal health databases. We anticipate that the electronic collection of data will increase volume and quality, minimize data errors, and speed data entry into a searchable database.

Strategy 5: Partner With States

Working in close partnership with State, Tribal, and Territorial officials, APHIS will continue to facilitate the development of each State's animal disease traceability infrastructure. Each State's animal health officials will administer and manage localized plans reflecting the animal health priorities in individual regions.

Strategy 6: Collaborate With Industry and Sectors

Producer organizations, representing member interests, can accelerate the adoption of practices that advance traceability. APHIS has entered into cooperative agreements with nonprofit industry organizations to promote premises registration within various species groups. Collaboration with USDA-accredited veterinarians will facilitate the delivery of accurate information to clients, as well as enhance the adoption of animal identification data elements in everyday production management systems and disease-program activities at the producer level. Additional partnership efforts with industry alliances, service providers, auction markets, feedlots, harvesting facilities, and other industry sectors are a priority for APHIS.

Strategy 7: Advance Identification Technologies

Continued advancements in traceability require practical, affordable technology solutions that improve the efficiency and accuracy of animal identification data collection. APHIS will collaborate with stakeholders to facilitate the development of performance standards for identification devices and evaluate emerging technologies, with emphasis on systems that can operate at the “speed of commerce.”

Outcomes and Timelines

Because the need to advance traceability differs among the various species and sectors, it is important for us to establish clear priorities as we proceed with implementing the NAIS. Targeted timelines for key strategies and actions will guide the implementation of these priorities. Due in part to its size and diversification, the cattle industry, at this time, has the greatest need to advance traceability, including increasing the level of official identification. These challenges require more resources and time to achieve optimum tracing capability for the industry.

Achieving Necessary Participation

The seven strategies discussed above are designed to increase involvement in the NAIS in order to achieve a “critical mass” of participation, at which point at least 70 percent of the animals in a specific species would be identified and traceable either to their premises of origin, (e.g., cattle, sheep and goats) or to their last production premises (e.g., swine and poultry). This performance measure will enable us to gauge the progress being made towards the participation levels necessary to achieve the optimum traceability goal; the 70 percent figure is an interim measurement designed to support incremental advancement, particularly in the cattle industry, where significant improvement is necessary.

Comments about the Business Plan or other aspects of the NAIS may be submitted to USDA through the NAIS Web site e-mail address: animalidcomments@aphis.usda.gov or by mail to NAIS Program Staff, VS, APHIS, 4700 River Road Unit 200, Riverdale, MD 20737.

Done in Washington, DC, this 14th day of December 2007.
Kevin Shea,
Acting Administrator, Animal and Plant Health Inspection Service.

[FR Doc. E7-24656 Filed 12-18-07; 8:45 am]

BILLING CODE 3410-34-P